DEPARTMENT OF COMMERCE

International Trade Administration

[A-570-827]

Certain Cased Pencils From the People's Republic of China: Preliminary Results of Antidumping Duty Administrative Review and Rescission of Review, in Part; 2017-2018

AGENCY: Enforcement and Compliance, International Trade Administration, Department of Commerce.

DATES: Applicable October 10, 2019.

SUMMARY: The Department of Commerce (Commerce) is conducting an administrative review of certain cased pencils (pencils) from the People's Republic of China (China) for the period of review (POR) December 1, 2017 through November 30, 2018. We preliminarily determine that Fila Dixon Stationery (Kunshan) Co., Ltd. (Kunshan Dixon) is not eligible for a separate rate and, therefore, remains part of the China-wide entity. Additionally, we are rescinding the review with respect to six companies. If these preliminary results are adopted in the final results, Commerce will instruct U.S. Customs and Border Protection (CBP) to assess antidumping (AD) duties on all appropriate entries of subject merchandise. Interested parties are invited to comment on these preliminary results.

FOR FURTHER INFORMATION CONTACT: Sergio Balbontin or Brian Smith, AD/CVD Operations, Office VIII, Enforcement and Compliance, International Trade Administration, U.S. Department of Commerce, 1401 Constitution Avenue NW, Washington, DC 20230; telephone: (202) 482-6478 or (202) 482-1766, respectively.

SUPPLEMENTARY INFORMATION:

Background

Commerce published the notice of initiation of this administrative review on March 14, 2019.¹ For a complete description of the events of this review, see the Preliminary Decision Memorandum.² A list of topics included in the Preliminary Decision Memorandum is included as an appendix to this notice.

¹ See Initiation of Antidumping and Countervailing Duty Administrative Reviews, 84 FR 9297 (March 14, 2019). Because Commerce inadvertently initiated an administrative review on Beijing Fila Dixon Stationery Co., Ltd. (aka Beijing Dixon Ticonderoga Stationery Co.) (Beijing Dixon) for which the order was revoked, Commerce published a correction initiation notice rescinding the administrative review of Beijing Dixon. See Initiation of Antidumping and Countervailing Duty Administrative Reviews, 84 FR 12200, 12206 n.9 (April 1, 2019).

² See Memorandum, “Decision Memorandum for Preliminary Results of Antidumping Duty Administrative Review and Partial Rescission: Certain Cased Pencils from the People's Republic of China; 2017-2018,” dated concurrently with, and hereby adopted by, this notice (Preliminary Decision Memorandum).

The Preliminary Decision Memorandum is a public document and is on file electronically via the Enforcement and Compliance's Antidumping and Countervailing Duty Centralized Electronic Service System (ACCESS). ACCESS is available to registered users at http://access.trade.gov and in the Central Records Unit, Room B8024 of the main Commerce building. In addition, a complete version of the Preliminary Decision Memorandum can be accessed directly on the internet at http://enforcement.trade.gov/frn/. The signed Preliminary Decision Memorandum and the electronic version of the Preliminary Decision Memorandum are identical in content.

Scope of the Order

The merchandise subject to the order includes certain cased pencils from China. The subject merchandise is currently classifiable under Harmonized Tariff Schedule of the United States (HTSUS) subheading 9609.10.00. Although the HTSUS subheading is provided for convenience and customs purposes, the written product description is dispositive. A full description of the scope of the order is contained in the Preliminary Decision Memorandum.

Partial Rescission of Review

Pursuant to 19 CFR 351.213(d)(1), Commerce will rescind an administrative review, “in whole or in part, if a party that requested a review withdraws the request within 90 days of the date of publication of notice of initiation of the requested review.” All requests for review have been timely withdrawn except with respect to Kunshan Dixon. Therefore, we are rescinding the administrative review with respect to Shandong Rongxin Import & Export Co., Ltd., Wah Yuen Stationery Co. Ltd. and Shandong Wah Yuen Stationery Co. Ltd. (collectively, the Wah Yuen Companies), Tianjin Tonghe Stationery Co. Ltd., Ningbo Homey Union Co., Ltd., and Orient International Shanghai Foreign Trade Co., Ltd.

Methodology

Commerce is conducting this review in accordance with sections 751(a)(1)(B) and 751(a)(2)(A) of the Tariff Act of 1930, as amended (the Act). Kunshan Dixon did not respond to Commerce's AD questionnaire and, therefore, has not demonstrated its eligibility for a separate rate. Accordingly, we are preliminarily treating Kunshan Dixon as part of the China-wide entity.

Commerce's policy regarding conditional review of the China-wide entity applies to this administrative review.³ Under this policy, the China-wide entity will not be under review unless a party specifically requests, or Commerce self-initiates, a review of the entity. Because no party requested a review of the China-wide entity in this review, the entity is not under review and the entity's current rate, i.e., 114.90 percent,⁴ is not subject to change.

³ See Antidumping Proceedings: Announcement of Change in Department Practice for Respondent Selection in Antidumping Duty Proceedings and Conditional Review of the Nonmarket Economy Entity in NME Antidumping Duty Proceedings, 78 FR 65963, 65970 (November 4, 2013).

⁴ See Certain Cased Pencils from the People's Republic of China: Preliminary Results of Antidumping Duty Administrative Review and Partial Rescission; 2014-2015, 81 FR 83201 (November 21, 2016), unchanged in Certain Cased Pencils from the People's Republic of China: Final Results of Antidumping Duty Administrative Review; 2014-2015, 82 FR 24675 (May 30, 2017), and accompanying Issues and Decision Memorandum.

For a full description of the methodology underlying our conclusions, see the Preliminary Decision Memorandum.

Disclosure

Normally, Commerce will disclose the calculations used in its analysis to parties in this review within five days of the public announcement or, if there is no public announcement, within five days of the date of publication of the notice of preliminary results, in accordance with 19 CFR 351.224(b). However, in this case, because Commerce did not calculate a weighted-average dumping margin for any companies in this review, or the China-wide entity, there are no calculations to disclose.

Public Comment

Case briefs or other written comments may be submitted to the Assistant Secretary for Enforcement and Compliance no later than 30 days after the publication of these preliminary results, unless the Secretary alters the time limit.⁵ Rebuttal briefs, limited to issues raised in case briefs, may be submitted no later than five days after case briefs are filed.⁶ Pursuant to 19 CFR 351.309(c)(2) and (d)(2), parties who submit case or rebuttal briefs in this review are requested to submit with each argument: (1) A statement of the issue; (2) a brief summary of the argument; and (3) a table of authorities.

⁵ See 19 CFR 351.309(c)(1)(ii); see also 19 CFR 351.303 (for general filing requirements).

⁶ See 19 CFR 351.309(d).

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) The party's name, address, and telephone number; (2) the number of participants; and (3) a list of the issues to be discussed. If a request for a hearing is made, Commerce intends to hold the hearing at the U.S. Department of Commerce, 1401 Constitution Avenue NW, Washington, DC 20230, at a time and date to be determined. Parties should confirm by telephone the date, time, and location of the hearing two days before the scheduled date.

Unless otherwise extended, Commerce intends to issue the final results of this administrative review, which will include the results of our analysis of the issues raised in the case briefs, within 120 days of publication of these preliminary results, pursuant to section 751(a)(3)(A) of the Act.

Assessment Rates

Upon issuance of the final results, Commerce will determine, and CBP shall assess, AD duties on all appropriate entries covered by this review.⁷ Commerce intends to issue assessment instructions to CBP 15 days after the publication date of the final results of this review. If Commerce continues to find Kunshan Dixon to be part of the China-wide entity in the final results, Commerce will instruct CBP to liquidate POR entries of subject merchandise from this firm at the China-wide rate of 114.90 percent. With respect to entries from companies for which Commerce is rescinding the review, AD duties shall be assessed at rates equal to the cash deposit of estimated AD duties required at the time of entry, or withdrawal from warehouse, for consumption, in accordance with 19 CFR 351.212(c)(1)(i).

⁷ See 19 CFR 351.212(b).

Cash Deposit Requirements

The following cash deposit requirements for estimated AD duties, when imposed, will apply to all shipments of the subject merchandise from China entered, or withdrawn from warehouse, for consumption on or after the publication date of the final results of this administrative review, as provided by section 751(a)(2)(C) of the Act: (1) For any company that is granted a separate rate, the cash deposit rate will be that established in the final results of review (except, if the rate is zero or de minimis, then zero cash deposit will be required); (2) for previously investigated or reviewed Chinese and non-Chinese exporters that are not under review in this segment but that received a separate rate in a prior segment of this proceeding, the cash deposit rate will continue to be the existing exporter-specific rate; (3) for all Chinese exporters of subject merchandise that have not been found to be entitled to a separate rate, the cash deposit rate will be that for the China-wide entity (i.e., 114.90 percent); ⁸ and (4) for all non-Chinese exporters of subject merchandise which have not received their own rate, the cash deposit rate will be the rate applicable to the Chinese exporter that supplied that non-Chinese exporter. These deposit requirements, when imposed, shall remain in effect until further notice.

⁸ See Certain Cased Pencils from the People's Republic of China: Final Results of Antidumping Duty Administrative Review; 2014-2015, 82 FR 24675 (May 30, 2017).

Notification to Importers

This notice also serves as a preliminary reminder to importers of their responsibility under 19 CFR 351.402(f)(2) to file a certificate regarding the reimbursement of AD duties prior to liquidation of the relevant entries during this review period. Failure to comply with this requirement could result Commerce's presumption that reimbursement of AD duties occurred and the subsequent assessment of double AD duties.

Notification to Interested Parties

We are issuing and publishing these preliminary results in accordance with sections 751(a)(1) and 777(i)(1) of the Act and 19 CFR 351.213 and 351.221(b)(4).

Dated: October 3, 2019.
Jeffrey I. Kessler,
Assistant Secretary for Enforcement and Compliance.

Appendix

List of Topics Discussed in the Preliminary Decision Memorandum

I. Summary

II. Background

III. Scope of the Order

IV. Partial Rescission of Review

V. Discussion of the Methodology

VI. Recommendation

[FR Doc. 2019-22132 Filed 10-9-19; 8:45 am]

BILLING CODE 3510-DS-P